DEPARTMENT OF VETERANS AFFAIRS

Privacy Act of 1974; System of Records

AGENCY: Department of Veterans Affairs (VA).

ACTION: Notice withdrawal.

SUMMARY: The Department of Veterans Affairs (VA) is announcing the withdrawal of a notice that was published in the Federal Register on April 24, 2020.

DATES: The notice is withdrawn on July 24, 2020.

FOR FURTHER INFORMATION CONTACT: Stephania Griffin, Veterans Health Administration (VHA) Privacy Officer, Department of Veterans Affairs, 810 Vermont Avenue NW, Washington, DC 20420; telephone (704) 245-2492.

SUPPLEMENTARY INFORMATION: In a notice published in the Federal Register on April 24, 2020 (85 FR 23139), “Privacy Act of 1974; System of Records (SOR), Notice of a modified system of records entitled, “Education Debt Reduction Program-VA” (115VA10)”, VA was amending the SOR by revising several components of the notice which included the System Number. We are withdrawing the notice because, upon further review we have determined that the accurate System Number is 115VA10A2. The System Number was changed from 115VA10 to 115VA10A2 to reflect the current organizational alignment.

Signing Authority

The Senior Agency Official for Privacy approved this document and authorized the undersigned to sign and submit the document to the Office of the Federal Register for publication electronically as an official document of the Department of Veterans Affairs. James P. Gfrerer, Assistant Secretary for Information and Technology and Chief Information Officer, Department of Veterans Affairs approved this document on July 13, 2020 for publication.

Dated: July 21, 2020.
Amy L. Rose,
Program Analyst, VA Privacy Service, Office of Information Security, Office of Information and Technology, Department of Veterans Affairs.

[FR Doc. 2020-16113 Filed 7-23-20; 8:45 am]

BILLING CODE 8320-01-P